DEPARTMENT OF JUSTICE

National Institute of Corrections

Solicitation for a Cooperative Agreement—Curricula Review and Revision: NIC Trainer Development Series

AGENCY: National Institute of Corrections, U.S. Department of Justice.

ACTION: Solicitation for a Cooperative Agreement.

SUMMARY: The National Institute of Corrections' (NIC) Academy Division is soliciting proposals from organizations, groups, or individuals to enter into a cooperative agreement for the review, revision, and/or development of competency-based, blended modality training curricula with the aim of providing corrections agencies and professionals with the knowledge, skills, and abilities needed to train and develop their staff.

DATES: Application must be received by 4 p.m. (EDT) on Friday, July 20, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 7-3106, extension 0 for pickup.

Faxed applications will not be accepted. Electronic applications can be submitted via http://www.grants.gov.

FOR FURTHER INFORMATION CONTACT: All technical or programmatic questions concerning this announcement should be directed to Michael Guevara, Correctional Program Specialist, National Institute of Corrections. Mr. Guevara can be reached by calling 800-995-6429, ext. 6617, or by email at mguevar@bop.gov. In addition to the direct reply, all questions and responses will be posted on NIC's Web site at www.nicic.gov for public review (the names of those submitting questions will not be posted). The Web site will be updated regularly and postings will remain on the Web site until the closing date of this cooperative agreement solicitation. Only questions received by 12 p.m. (EDT) on July 13, 2012 will be posted on the NIC Web site.

SUPPLEMENTARY INFORMATION:

Overview: NIC is revitalizing its trainer development series with the goal of helping corrections agencies and trainers improve staff training and development. NIC is interested in updating some of its curricula, including “Training Design and Development,” “Foundation Skills for Trainers,” “Building Agency Success: Developing an Effective FTO/OJT Training Program,” and “Training for Training Directors.” NIC is also interested in the development of a model Training for Trainers template that could be applied broadly, enabling agencies to train trainers in existing curricula.

All curricula will follow the Instructional Theory into Practice (ITIP) model and will incorporate blended learning strategies. A copy of the “ITIP Toolkit,” which may be useful in helping awardees develop acceptable curricula, is available on the NIC Web site at http://nicic.gov/Library/024773. An essential component of this project will be the incorporation of current research on adult learning and performance. The use of multiple delivery technologies is required.

Background: NIC has prioritized capacity building in corrections agencies for decades. While NIC frequently relied on traditional classroom-based training in the past, the emergence of new technologies and the ever-growing body of research on adult learning and performance has caused NIC's approach to shift to blended delivery. Blended learning environments can increase the efficiency of professional development, and research supports that these methods are equally as effective as more traditional deliveries.

Three important factors have caused NIC to reexamine its trainer development series. The first factor is the effect of ongoing budget constraints on agencies and departments throughout the country. Staff development divisions have been hit particularly hard by budget cuts, and administrators are faced with the difficult task of finding personnel qualified to train their staff. Second, a wide variety of technologies have emerged in the last decade (and new ones debut at an astounding rate) that can enhance learning experiences and make training both more effective and more efficient. Third, research on adult learning and performance continues to grow, mandating that lesson plans be examined to ensure that the instructional design itself (as well as the subject matter) is evidence-based.

Purpose: To comparatively review current resources, analyze gaps, and, based on that analysis, revise or create a new NIC learning and performance series of curricula.

Scope of Work: By the end of this cooperative agreement, the awardee will complete four interrelated tasks: (1) Conduct an exhaustive review of available resources related to learning and performance. This review should include resources external to NIC as well as those generated by NIC. (2) Conduct a gap analysis and make recommendations on how to revise existing curricula or create new curricula to meet the learning and performance needs of the corrections field. While recommendations for other curricula revisions will be considered, NIC is particularly interested in the revitalization of the following: “Training Design and Development” (http://nicic.gov/Library/019271); “Foundation Skills for Trainers” (http://nicic.gov/Library/019541); “Building Agency Success: Developing an Effective FTO/OJT Training Program” (http://nicic.gov/Library/019856); and “Training for Training Directors” (http://nicic.gov/Library/022679). (3) Upon completion of the resource review and analysis, and after consultation with the NIC project manager, the awardee will revise or develop the agreed-upon curricula. The four curricula mentioned in the previous paragraph will be revised as part of this cooperative agreement. The resource review and gap analysis will inform how they will be revised and how the awardee will best incorporate blended learning strategies. All new or revised curricula will be developed following the Instructional Theory into Practice (ITIP) model. Each curriculum will include facilitator manuals, participant materials, and all relevant supplemental material such as presentation slides, visual and/or audio aids, videos, virtual instructor-led training lesson plans, handouts, and exercises. Clear learning objectives must be contained in each lesson, and delivery modality should be based on how to most efficiently and effectively achieve these objectives. (4) Finally, the awardee will develop a model Training for Trainers template that can be applied broadly and enable agencies to train trainers in existing curricula.

Specific Requirements: The incorporation of blended learning strategies is mandatory. An example of a blended curriculum may include: (A) Taking one or more asynchronous e-courses on such topics as the fundamentals of training (e.g., “Instructional Theory into Practice (ITIP): No Fail Lesson Plan Construction,” or “How to Develop Effective Performance Objectives,” both available through NIC's Learn Center: http://nic.learn.com/); (B) One or more virtual instructor-led trainings on, for example, distance learning or the effective use of social media in a learning environment. This medium is also ideal for orientation, expectations, and other basics; (C) Reading assignments on current research; (D) Discussion forums, blogs, and/or social media threads to create a community of practice; (E) Classroom-based training for modeling and guided practice of interpersonal skills; (F) Independent practice at home agencies; and (G) Follow-up VILTs focusing on implementation and action planning.

Among other factors, the cooperative agreement will be awarded with consideration for a proposal that demonstrates an organization, group, or individual with knowledge, experience, and expertise in the following: Curriculum design and development; Adult learning theory; Current research in the areas of learning and performance; Applying the ITIP (or comparable) model; Designing and delivering effective blended learning curricula; Training for trainers design and delivery; Managing projects and delivering products on time and within budget.

Requirement for Example of Blended Curriculum Work: All applicants must supply one example of a blended curriculum designed, developed, and delivered by the applicant. If different team members have experience with different aspects of design and delivery, elements of each from separate curricula are acceptable.

Document Requirements: Documents or other media produced under this award must follow these guidelines: Prior to the preparation of the final draft of any document or other media, the awardee must consult with NIC's writer/editor concerning the acceptable formats for manuscript submissions and the technical specifications for electronic media. The awardee must follow the guidelines listed herein, as well as follow (1) the Guidelines for Preparing and Submitting Manuscripts for Publication as found in the “General Guidelines for Cooperative Agreements,” which can be found on the NIC Web site at www.nicic.gov/cooperativeagreements and (2) NIC recommendations for producing media using plain language, which can be found at www.nicic.gov/plainlanguage.

All final documents and other media submitted under this project may be posted on the NIC Web site and must meet the federal government's requirement for accessibility (e.g., 508 PDFs or HTML files). The awardee must provide descriptive text interpreting all graphics, photos, graphs, and/or multimedia that will be included with or distributed alongside the materials and must provide transcripts for all applicable audio/visual works.

Application Requirements: Applications should be concisely written, typed double spaced and reference the project by the “NIC Opportunity Number” and Title in this announcement. The package must include: A cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/General/certif-frm.pdf.).

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicant's best ideas regarding accomplishment of the scope of work and the related costs for achieving the goals of this solicitation. Funding is set at $100,000. Funds may be used only for the activities that are linked to the desired outcome of the project.

Eligibility of Applicants: An eligible applicant is any public or private agency, educational institution, organization, individual, or team with expertise in the described areas.

Review Considerations: Applications received under this announcement will be subjected to the NIC review process. The criteria for the evaluation of each application will be as follows:

Programmatic (50%)

Is there demonstrated knowledge of adult learning theory? Is there a demonstrated knowledge of the ITIP model of curriculum development? Does the applicant demonstrate knowledge, skill, and experience in designing and developing curricula? Does the applicant demonstrate knowledge, skill, and experience in designing and developing training for trainers? Is there demonstrated knowledge of how to effectively use blended learning techniques? Does the proposal clearly lay out a plan for incorporating blended learning strategies? Are there any innovative approaches, techniques, or design aspects proposed that will enhance the project?

Organizational (20%)

Do the skills, knowledge, and expertise of the organization and the proposed project staff demonstrate a high level of competency to complete the tasks? Does the applicant/organization have the necessary experience and organizational capacity to meet all goals of the project? Are the proposed project management and staffing plans realistic and sufficient to complete the project within the specified time frame?

Project Management/Administration (15%)

Does the applicant identify specific and reasonable objectives, milestones, and measures to track progress? Are major tasks and strategies that will be used to achieve objectives and milestones clearly identified? Is a clear and reasonable structure for the allocation of all personnel, consultants, and resources laid out?

Financial/Administrative (15%)

Is there adequate cost narrative to support the proposed budget? Does the budget seem realistic, and does the cost seem reasonable? Does the proposal seem to provide good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, dial 1-866-705-5711 and select option 1).

Registration in the CCR can be done online at the CCR Web site: http://www.ccr.gov. A CCR Handbook and worksheet can also be reviewed at the Web site.

Number of Awards: One.

NIC Opportunity Number: 12AC15. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-16334 Filed 7-3-12; 8:45 am]

BILLING CODE 4410-36-P